COMMODITY FUTURES TRADING COMMISSION

Agency Information Collection Activities: Notice of Intent To Renew Collection Number 3038-0062, Off-Exchange Foreign Currency Transactions; Correction

AGENCY: Commodity Futures Trading Commission.

ACTION: Notice; correction.

SUMMARY: The Commodity Futures Trading Commission published a document in the Federal Register of November 28, 2017, concerning a request for comments on a Paperwork Reduction Act Notice related to off-exchange foreign currency transactions. The document contained a reference to an incorrect Office of Management and Budget control number. This document corrects that error.

FOR FURTHER INFORMATION CONTACT: Lauren Bennett, Special Counsel, 202-418-5290, email: lbennett@cftc.gov, Division of Swap Dealer and Intermediary Oversight, Commodity Futures Trading Commission and refer to OMB Control No. 3038-0062.

Correction

In the Federal Register of November 28, 2017, FR Doc. 2017-25698, on page 56221, in the second column, correct the second sentence of the ADDRESSES caption to read:

Please identify the comments by OMB Control No. 3038-0062.

Dated: November 29, 2017.
Robert N. Sidman,
Deputy Secretary of the Commission.

[FR Doc. 2017-26026 Filed 12-1-17; 8:45 am]

BILLING CODE 6351-01-P